DEPARTMENT OF HEALTH AND HUMAN SERVICES

National Institutes of Health

Center for Scientific Review; Amended Notice of Meeting

Notice is hereby given of a change in the meeting of the Virology—A Study Section, February 10, 2011, 8 a.m. to February 11, 2011, 5 p.m., Hilton Alexandria Old Town, 1767 King Street, Alexandria, VA 22314 which was published in the Federal Register on January 11, 2011, 76 FR 1622-1624.

The starting time of the meeting on February 10, 2011 has been changed to 8:30 a.m. until adjournment. The meeting dates and location remain the same. The meeting is closed to the public.

Dated: January 14, 2011.
Jennifer S. Spaeth,
Director, Office of Federal Advisory Committee Policy.

[FR Doc. 2011-1243 Filed 1-20-11; 8:45 am]

BILLING CODE 4140-01-P